DEPARTMENT OF THE INTERIOR

National Park Service

[NPS-WASO-NAGPRA-NPS0031766; PPWOCRADN0-PCU00RP14.R50000]

Notice of Intent To Repatriate Cultural Items: University of Denver Museum of Anthropology, Denver, CO

AGENCY: National Park Service, Interior.

ACTION: Notice.

SUMMARY: The University of Denver Museum of Anthropology, in consultation with the appropriate Indian Tribes or Native Hawaiian organizations, has determined that the cultural items listed in this notice meet the definition of unassociated funerary objects. Lineal descendants or representatives of any Indian Tribe or Native Hawaiian organization not identified in this notice that wish to claim these cultural items should submit a written request to the University of Denver Museum of Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of Denver Museum of Anthropology at the address in this notice by May 27, 2021.

ADDRESSES: Anne Amati, University of Denver Museum of Anthropology, 2000 E Asbury Avenue, Sturm Hall 146, Denver, CO 80208, telephone (303) 871-2687, email anne.amati@du.edu.

SUPPLEMENTARY INFORMATION: Notice is here given in accordance with the Native American Graves Protection and Repatriation Act (NAGPRA), 25 U.S.C. 3005, of the intent to repatriate cultural items under the control of the University of Denver Museum of Anthropology, Denver, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1932, 23 cultural items were removed from two rock-shelters in Middle Creek Canyon, near Beulah, in Pueblo County, CO. The cultural items were removed by Chester A. Thomas and sent to E.B. Renaud at the University of Denver. The 23 unassociated funerary objects are three sandals, one pot rest, one feather blanket, one side scraper, two flakers, two basket base fragments, one pillow, two sandal fragments, one lot of yucca twigs, two abraders, two lots of cordage, four digging sticks, and one snare.

Museum records and tribal oral history indicate that the two rock-shelters were most likely burial locations. Pueblo County, CO, is located within the aboriginal homelands of the Mouache Band of Utes. Historical documents indicate the presence of the Ute people on the Front Range during Spanish and U.S. occupation. Today, Mouache descendants are one of two Ute Bands who comprise the Southern Ute Indian Tribe of the Southern Ute Reservation, Colorado.

Determinations Made by the University of Denver Museum of Anthropology

Officials of the University of Denver Museum of Anthropology have determined that:

• Pursuant to 25 U.S.C. 3001(3)(B), the 23 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Southern Ute Indian Tribe of the Southern Ute Reservation, Colorado.

Additional Requestors and Disposition

Lineal descendants or representatives of any Indian Tribe or Native Hawaiian organization not identified in this notice that wish to claim these cultural items should submit a written request with information in support of the claim to Anne Amati, University of Denver Museum of Anthropology, 2000 E Asbury Ave, Sturm Hall 146, Denver, CO 80208, telephone (303) 871-2687, email anne.amati@du.edu, by May 27, 2021. After that date, if no additional claimants have come forward, transfer of control of the unassociated funerary objects to the Southern Ute Indian Tribe of the Southern Ute Reservation, Colorado may proceed.

The University of Denver Museum of Anthropology is responsible for notifying the Southern Ute Indian Tribe of the Southern Ute Reservation, Colorado that this notice has been published.

Dated: April 19, 2021.
Melanie O'Brien,
Manager, National NAGPRA Program.

[FR Doc. 2021-08766 Filed 4-26-21; 8:45 am]

BILLING CODE 4312-52-P